Executive Order 14302 of May 23, 2025

Reinvigorating the Nuclear Industrial Base

By the authority vested in me as President by the Constitution and the laws of the United States of America, it is hereby ordered:

Section 1. Purpose. The United States originally pioneered nuclear energy technology during a time of great peril. We now face a new set of challenges, including a global race to dominate in artificial intelligence, a growing need for energy independence, and access to uninterruptible power supplies for national security.

It took nearly 40 years for the United States to add the same amount of nuclear capacity as another developed nation added in 10 years. Further, as American deployment of advanced reactor designs has waned, 87 percent of nuclear reactors installed worldwide since 2017 are based on designs from two foreign countries. At the same time, the Nation's nuclear fuel cycle infrastructure has severely atrophied, leaving the United States heavily dependent on foreign sources of uranium as well as uranium enrichment and conversion services. These trends cannot continue.

Swift and decisive action is required to jumpstart America's nuclear energy industrial base and ensure our national and economic security by increasing fuel availability and production, securing civil nuclear supply chains, improving the efficiency with which advanced nuclear reactors are licensed, and preparing our workforce to establish America's energy dominance and accelerate our path towards a more secure and independent energy future.

Sec. 2. Policy. It is the policy of the United States to expedite and promote to the fullest possible extent the production and operation of nuclear energy to provide affordable, reliable, safe, and secure energy to the American people, to power advanced nuclear reactor technologies, as defined in 42 U.S.C. 16271(b)(1)(A), and to build associated supply chains that secure our global industrial and digital dominance, achieve our energy independence, protect our national security, and maximize the efficiency and effectiveness of nuclear fuel through recycling, reprocessing, and reinvigorating the commercial sector.

Sec. 3. Strengthening the Domestic Nuclear Fuel Cycle. (a) Within 240 days of the date of this order, the Secretary of Energy, in coordination with the Secretary of Defense, the Secretary of Transportation, and the Director of the Office of Management and Budget (OMB), shall prepare and submit to the President, through the Chair of the National Energy Dominance Council and the Director of the Office of Science and Technology Policy, a report that includes:

(i) a recommended national policy to support the management of spent nuclear fuel and high-level waste and the development and deployment of advanced fuel cycle capabilities to establish a safe, secure, and sustainable long-term fuel cycle;

(ii) a review of relevant statutory authorities to identify any legislative changes necessary or desirable to achieve the national policy recommended under subsection (a)(i) of this section;

(iii) an evaluation of the reprocessing and recycling of spent nuclear fuel from the operation of Department of Defense and Department of Energy reactors and other spent nuclear fuel managed by the Department of Energy, along with a discussion of steps the Department of Defense and the Department of Energy are taking or must take to improve such reprocessing and recycling processes;

(iv) an analysis of legal, budgetary, and policy considerations relevant to efficiently transferring spent nuclear fuel from reactors to a government-owned, privately operated reprocessing and recycling facility;

(v) recommendations for the efficient use of the uranium, plutonium, and other products recovered through recycling and reprocessing;

(vi) recommendations for the efficient disposal of the wastes generated by recycling or reprocessing through a permanent disposal pathway;

(vii) a recommended process for evaluating, prior to disposal, nuclear waste materials for isotopes of value to national security, or medical, industrial, and scientific sectors;

(viii) a reevaluation of historic and current nuclear reprocessing, separation, and storage facilities slated for decommissioning and that are identified as having valuable materials, isotopes, equipment, licenses, operations, or experienced workers, and that may have potential fuel cycle or national security benefits if operations are continued or increased; and

(ix) a program to develop methods and technologies to transport, domestically and overseas, used and unused advanced nuclear fuels and advanced nuclear reactors containing such fuels in a safe, secure, and environmentally sound manner, including any legislation required to support this initiative.

(b) Within 120 days of the date of this order, the Secretary of Energy, in consultation with the Chair of the Nuclear Regulatory Commission and the Director of OMB, shall develop a plan to expand domestic uranium conversion capacity and expand enrichment capabilities sufficient to meet projected civilian and defense reactor needs for low enriched uranium (LEU), high enriched uranium (HEU) and high assay, low enriched uranium (HALEU), subject to retention of such stockpiles as are necessary for tritium production, naval propulsion, and nuclear weapons. The plan shall be implemented based on the timeframes set forth in the plan.

(c) The Secretary of Energy shall halt the surplus plutonium dilute and dispose program except with respect to the Department of Energy's legal obligations to the State of South Carolina. In place of this program, the Secretary of Energy shall establish a program to dispose of surplus plutonium by processing and making it available to industry in a form that can be utilized for the fabrication of fuel for advanced nuclear technologies.

(d) Within 90 days of the date of this order, the Secretary of Energy, in consultation with the Secretary of Defense as appropriate, shall update the Department of Energy's excess uranium management policy to align with the policy objectives of this order and the Nuclear Fuel Security Act, factoring in the national security need to modernize the United States nuclear weapon stockpile. The Secretary of Energy shall prioritize contracting for the development of fuel fabrication facilities that demonstrate the technical and financial feasibility to supply fuel to qualified test reactors or pilot program reactors within 3 years from the date of such applications.

(e) Within 30 days of the date of this order, the Secretary of Energy, in coordination with the Attorney General and the Chairman of the Federal Trade Commission, shall utilize the authority provided to the President in section 708(c)(1) of the Defense Production Act of 1950 (DPA) (50 U.S.C. 4558(c)(1)), which has been delegated to the Secretary of Energy pursuant to Executive Order 13603 of March 16, 2012 (National Defense Resources Preparedness), to seek voluntary agreements pursuant to section 708 of the DPA with domestic nuclear energy companies. The Secretary of Energy should prioritize agreements with those companies that have achieved objective milestones (e.g., Department of Energy-approved conceptual safety design reports, the ability to privately finance their fuel, or the demonstrated technology capability) for the cooperative procurement of LEU and HALEU, including as needed by the Federal Government for tritium production, naval propulsion, and nuclear weapons.

(f) The Secretary of Energy, the Attorney General, and the Chairman of the Federal Trade Commission shall take all necessary and appropriate steps under sections 708(c), (d), (e), and (f)(1)(A) of the DPA (50 U.S.C. 4558(c), (d), (e), (f)(1)(A)), for the Secretary of Energy to form agreements pursuant to subsection (e) of this section.

(g) The Attorney General shall, after consultation with the Chairman of the Federal Trade Commission, consider whether to make the finding described in section 708(f)(1)(B) of the DPA (50 U.S.C. 4558(f)(1)(B)), with respect to any agreement and, no later than 30 days after any voluntary agreement is reached, shall publish such finding as appropriate.

(h) Such voluntary agreements shall further allow consultation with domestic nuclear energy companies to discuss and implement methods to enhance the capability to manage spent nuclear fuel, including the recycling and reprocessing of spent nuclear fuel, to ensure the continued reliable operation of the Nation's nuclear reactors. Such voluntary agreements shall also allow industry consultation to establish consortia and plans of action to ensure that the nuclear fuel supply chain capacity, including milling, conversion, enrichment, deconversion, fabrication, recycling, or reprocessing, is available to enable the continued reliable operation of the Nation's existing, and future, nuclear reactors. The Secretary of Energy, consistent with applicable law, is authorized to provide procurement support, forward contracts, or guarantees to such consortia as a means to ensure offtake for newly established domestic fuel supply, including conversion, enrichment, reprocessing, or fabrication capacity.

Sec. 4. Funding for Restart, Completion, Uprate, or Construction of Nuclear Plants. (a) To maximize the speed and scale of new nuclear capacity, the Department of Energy shall prioritize work with the nuclear energy industry to facilitate 5 gigawatt of power uprates to existing nuclear reactors and have 10 new large reactors with complete designs under construction by 2030. To help achieve these objectives, the Secretary of Energy, through the Department of Energy Loan Programs Office, shall, subject to the requirements of the Federal Credit Reform Act and other applicable law and OMB Circular A-11, prioritize activities that support nuclear energy, including actions to make available resources for restarting closed nuclear power plants, increasing power output of operating nuclear power plants, completing construction of nuclear reactors that was prematurely suspended, constructing new advanced nuclear reactors, and improving all associated aspects of the nuclear fuel supply chain.

(b) The Secretary of Energy shall also coordinate with the Secretary of Defense to assess the feasibility of restarting or repurposing closed nuclear power plants as energy hubs for military microgrid support, consistent with applicable law, focusing initially on installations with insufficient power resilience or grid fragility.

(c) Within 180 days of the date of this order, the Secretary of Energy, in coordination with the Administrator of the Small Business Administration, shall, subject to the availability of appropriations, prioritize funding for qualified advanced nuclear technologies through grants, loans, investment capital, funding opportunities, and other Federal support. Priority shall be given to those companies demonstrating the largest degrees of design and technological maturity, financial backing, and potential for near-term deployment of their technologies.

Sec. 5. Expanding the Nuclear Energy Workforce. (a) Nuclear engineering and other careers and education pathways that support the nuclear energy industry shall be considered areas of focus and priority pursuant to Executive Order 14278 of April 23, 2025 (Preparing Americans for High-Paying Skilled Trade Jobs of the Future).

(b) Within 120 days of the date of this order, the Secretary of Labor and the Secretary of Education shall seek to increase participation in nuclear energy-related Registered Apprenticeships and Career and Technical Education programs by:

(i) using apprenticeship intermediary contracts and allocating existing discretionary funds, as appropriate and consistent with applicable law, to engage industry organizations and employers to perform a gap analysis of apprenticeship programs, and facilitate the development of Registered Apprenticeship programs, in nuclear energy-related occupations that are underrepresented;

(ii) encouraging States and grantees to use funding provided under the Workforce Innovation and Opportunity Act (Public Law 113-128), as amended, to develop nuclear engineering and other nuclear energy-related skills and to support work-based learning opportunities, including issuing related guidance to State and local workforce development boards and others regarding use of such funds for such purposes; and

(iii) consistent with applicable law, establishing nuclear engineering and other nuclear energy-related skills training and work-based learning as a grant priority in Employment and Training Administration and Office of Career, Technical, and Adult Education discretionary grant programs.

(c) Within 120 days of the date of this order, all executive departments and agencies that provide educational grants shall, as appropriate and consistent with applicable law, consider nuclear engineering and other nuclear energy-related careers as a priority area for investment.

(d) Within 120 days of the date of this order, the Secretary of Energy shall take steps to increase access to research and development infrastructure, workforce, and expertise at Department of Energy National Laboratories for college and university students studying nuclear engineering and other nuclear energy-related fields, and Department of Defense personnel affiliated with nuclear energy programs.

Sec. 6. Other Provisions. Nothing in this order shall be construed to impair or otherwise affect OMB functions related to procurement actions and related policy. This order shall be carried out subject to the budgetary, legislative, and procurement processes and requirements established by the Director of OMB, and coordinated with OMB, as appropriate, prior to the initiation of any new program, obligation, or commitment of Federal funds, or submission of any legislative or procurement proposal arising from this order. This order shall be carried out in a manner which adheres to applicable legal requirements, conforms with nonproliferation obligations, and meets the highest safeguards, safety, and security standards.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The Department of Energy shall provide funding for publication of this order in the Federal Register.

THE WHITE HOUSE,

May 23, 2025.

[FR Doc. 2025-09801

Filed 5-28-25; 8:45 am]

Billing code 6450-01-P